DEPARTMENT OF EDUCATION

Study of the ESEA Title VI Indian Education LEA Grants Program; ED-2017-ICCD-0083; Correction

AGENCY: Department of Education.

ACTION: Correction Notice.

SUMMARY: This is to request correction on the Federal Register Notice (Docket ID Number ED-2017-ICCD-0083; FR DOC# 2017-26723), published on December 12, 2017, and entitled “Evaluation of the ESEA Title VI Indian Education LEA Grants Program”. The title and abstract were incorrect. The correct title is “Study of the ESEA Title VI Indian Education LEA Grants Program”. The abstract is corrected as follows:

This data collection supports a national study of the implementation of the Title VI Indian Education Grants to Local Educational Agencies program. It will provide descriptive information on the nature of program-funded services. It will also examine how grantees align and leverage Title VI-funded services with those funded by other federal, state, and local sources; how they identify American Indian and Alaska Native (AI/AN) students who are eligible for these services; how they establish and implement program priorities with parent, community, and tribal involvement; and how they measure progress toward their Title VI project objectives. This information will inform the U.S. Department of Education's Office of Indian Education (OIE), other federal policy, budget and program staff, and grantees about the implementation of current practices. To gather consistent information that addresses how Title VI grantees are identifying eligible children and planning and implementing services for them, it is necessary to collect additional information beyond current federal data collections (e.g., Annual Performance Reports and EASIE Budget Reports provided by the OIE).

The Acting Director, Information Collection Clearance Division, Office of the Chief Privacy Officer, Office of Management, hereby issues a correction notice as required by the Paperwork Reduction Act of 1995.

Dated: December 12, 2017.
Kate Mullan,
Acting Director, Information Collection Clearance Division, Office of the Chief Privacy Officer, Office of Management.

[FR Doc. 2017-27032 Filed 12-14-17; 8:45 am]

BILLING CODE 4000-01-P